DEPARTMENT OF TRANSPORTATION

Federal Aviation Administration

Government/Industry Aeronautical Charting Forum Meeting

AGENCY: Federal Aviation Administration (FAA), DOT.

ACTION: Notice of public meeting.

SUMMARY: This notice announces the bi-meeting of the Federal Aviation Administration's Government/Industry Aeronautical Charting Forum (ACF) to discuss informational content and design of aeronautical charts and related products, as well as instrument flight procedures policy and criteria.

DATES: The ACF is separated into two distinct groups. The Instrument Procedures Group will meet October 21 and 22, 2002 from 8:30 a.m. to 4:30 p.m. The Charting Group will meet October 23 and 24 from 8:30 a.m. to 4:30 p.m.

ADDRESSES: The meeting will be held at the Air Line Pilots Association, 535 Herndon Parkway, Herndon, VA 20172.

FOR FURTHER INFORMATION CONTACT: For information relating to the Instrument Procedures Group, contact Thomas E. Schneider, Flight Procedures Standards Branch, AFS-420, 6500 South MacArthur Blvd., PO Box 25082, Oklahoma City, OK 73125; telephone (405) 954-5852 fax: (405) 954-2528. For information relating to the Charting Group, contact Richard V. Powell, FAA, Air Traffic Airspace Management, ATA-100, 800 Independence Avenue, SW., Washington, DC 20591; telephone: (202) 267-8790, fax: (202) 493-4266.

SUPPLEMENTARY INFORMATION: Pursuant to § 10(a)(2) of the Federal Advisory Committee Act (Pub. L. 92-463; 5 U.S.C. App. II), notice is hereby given of a meeting of the Government/Industry Aeronautical Charting Forum to be held from October 21, 2002 to October 24, 2002 from 8:30 a.m. to 4:30 p.m. at the Air Line Pilots Association, 535 Herndon Parkway, Herndon, VA 20172.

The Instrument Procedures Group agenda will include briefings and discussions on recommendations regarding pilot procedures for instrument flight, as well as criteria, design, and developmental policy for instrument approach and departure procedures.

The Charting Group agenda will include briefings and discussions regarding recommendations regarding aeronautical charting specifications, flight information products, as well as new aeronautical charting and air traffic initiatives.

Attendance is open to the interested public, but will be limited to the space available.

The public must make arrangements by September 23, 2002, to present oral statements at the meeting. The public may present written statements and/or new agenda items to the committee by providing a copy to the person listed in the for further information contact section by September 27, 2002. Public statements will only be considered if time permits.

Issued in Washington, DC, on September 20, 2002.
Richard V. Powell,
Co-Chair, Government/Industry, Aeronautical Charting Forum.

[FR Doc. 02-24455 Filed 9-25-02; 8:45 am]

BILLING CODE 4910-13-M